DEPARTMENT OF LABOR

Employment and Training Administration

[TA-W-54,691]

R.A.G.S., Inc., Including Leased Workers of Selective HR Solutions, Inc., Albemarle, NC; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance and Alternative Trade Adjustment Assistance on April 30, 2004, applicable to workers of R.A.G.S., Inc., Albemarle, North Carolina. The notice will be published soon in the Federal Register.

At the request of the State agency, the Department reviewed the certification for workers of the subject firm. The workers were engaged in the production of women's tops: jackets, blouses and shirts.

Information provided by the State agency shows that all workers of the Albemarle, North Carolina location of the subject firm are leased workers of Selective HR Solutions, Inc.

Information also shows that workers separated from employment at the subject firm had their wages reported under a separate unemployment insurance (UI) tax account for Selective HR Solutions, Inc. employed at R.A.G.S., Inc., Albemarle, North Carolina.

Based on these findings, the Department is amending this certification to include leased workers of Selective HR Solutions, Inc. working at R.A.G.S., Inc., Albemarle, North Carolina.

The intent of the Department's certification is to include all workers of R.A.G.S., Inc. who was adversely affected by increased imports.

The amended notice applicable to TA-W-54,691 is hereby issued as follows:

All workers of R.A.G.S., Inc., including leased workers of Selective HR Solutions, Inc., Albemarle, North Carolina, who became totally or partially separated from employment on or after March 31, 2003, through April 30, 2006, are eligible to apply for adjustment assistance under section 223 of the Trade Act of 1974, and are also eligible to apply for alternative trade adjustment assistance under section 246 of the Trade Act of 1974.

Signed at Washington, DC, this 20th day of May, 2004.
Richard Church,
Certifying Officer, Division of Trade Adjustment Assistance.

[FR Doc. 04-12382 Filed 6-1-04; 8:45 am]

BILLING CODE 4510-30-P